DEPARTMENT OF ENERGY

Federal Energy Regulatory Commission

[Project No. 13528-001]

Soule Hydro LLC; Notice of Preliminary Permit Application Accepted for Filing and Soliciting Comments, Motions To Intervene, and Competing Applications

On September 1, 2012, Soule Hydro LLC, filed an application for a successive preliminary permit, pursuant to section 4(f) of the Federal Power Act (FPA), proposing to study the feasibility of the Soule River Hydroelectric Project (project) to be located on the Soule River near Hyder within the Ketchikan Recording District in Alaska. The sole purpose of a preliminary permit, if issued, is to grant the permit holder priority to file a license application during the permit term. A preliminary permit does not authorize the permit holder to perform any land-disturbing activities or otherwise enter upon lands or waters owned by others without the owners' express permission.

The proposed project would consist of the following: (1) A 265-foot-high, 903-foot-long Main dam; (2) a 265-foot-high, 2,024 feet-long Saddle dam adjacent to the main dam; (3) a storage reservoir with a surface area of 1,072 acres and active storage capacity of 91,800 acre-feet; (4) a 16-foot-diameter, 11,400-foot-long conduit tunnel; (5) a powerhouse with approximate dimensions of 80 feet wide by 160 feet long containing three Francis-type turbines with total installed capacity of 77 megawatts; (6) a marine access facilities including staging area, boat ramp, barge basin, float, and access road; (7) a 138-kilovolt buried transmission line extending 700 feet from the powerhouse across the Soule River, 10 miles submarine cable across the Portland Canal, then 2.5 miles overhead to the point of interconnection at the existing BC Hydro substation near Stewart; and (8) appurtenant facilities. The estimated annual generation of the project would be 200 gigawatt-hours.

Applicant Contact: Mr. Bob Grimm, Alaska Power & Telephone Company, P.O. Box 3222, 193 Otto Street, Port Townsend, Washington 98368; phone: (360) 385-1733 ext. 120.

FERC Contact: Kim A. Nguyen; phone: (202) 502-6015.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13528) in the docket number field to access the document. For assistance, contact FERC Online Support.

Dated: October 5, 2012.
Kimberly D. Bose,
Secretary.

[FR Doc. 2012-25208 Filed 10-12-12; 8:45 am]

BILLING CODE 6717-01-P